DEPARTMENT OF LABOR

Employment and Training Administration

[TA-W-65,431]

CWR Manufacturing Corporation, East Syracuse, NY; Notice of Termination of Investigation

Pursuant to Section 221 of the Trade Act of 1974, as amended, an investigation was initiated on February 27, 2009 in response to a petition filed by a company official on behalf of workers of CWR Manufacturing Corporation, East Syracuse, New York.

The petitioner has requested that the petition be withdrawn. Consequently, the investigation has been terminated.

Signed at Washington, DC, this 15th day of April 2009.
Elliott S. Kushner,
Certifying Officer, Division of Trade Adjustment Assistance.

[FR Doc. E9-10906 Filed 5-8-09; 8:45 am]

BILLING CODE 4510-FN-P